DEPARTMENT OF HOMELAND SECURITY

Coast Guard

46 CFR Part 56

Piping Systems and Appurtenances

CFR Correction

In Title 46 of the Code of Federal Regulations, Parts 41 to 69, revised as of October 1, 2014, on page 229, in § 56.70-15, the heading for paragraph (b) is reinstated before paragraph (1) to read: “(b) Girth butt welds.”

[FR Doc. 2015-13052 Filed 5-28-15; 8:45 am]

BILLING CODE 1505-01-D